DEPARTMENT OF THE INTERIOR

National Park Service

[NPS-WASO-NRSS-NPS0039152; PPWONRADE3, PPMRSNR1Y.NM0000 (213); OMB Control Number 1024-NEW]

Agency Information Collection Activities; Socioeconomic Monitoring Study of National Park Service Visitors

AGENCY: National Park Service, Interior.

ACTION: Notice of information collection; request for comment.

SUMMARY: In accordance with the Paperwork Reduction Act of 1995, we, the National Park Service (NPS), are proposing a new information collection.

DATES: Interested persons are invited to submit comments on or before February 18, 2025.

ADDRESSES: Written comments and suggestions on the information collection requirements should be submitted by the date specified above in DATES to https://www.reginfo.gov/public/do/PRAMain. Find this particular information collection by selecting “Currently under Review—Open for Public Comments” or by using the search function. Please provide a copy of your comments to Phadrea Ponds, NPS Information Collection Clearance Officer (ADIR-ICCO), 13461 Sunrise Valley Drive, (MS-244) Herndon, VA 20171 (mail); or phadrea_ponds@nps.gov (email). Please include 1024-NEW (SEM) in the subject line of your comments.

FOR FURTHER INFORMATION CONTACT: To request additional information about this information collection request (ICR), contact Bret Meldrum NPS Social Science Program Manager 1201 Oakridge Drive, Fort Collins, CO 80525 (mail); at bret_meldrum@nps.gov email or 970-267-7295 (telephone). Please include 1024-NEW (SEM) in the subject line of your comments. Individuals in the United States who are deaf, deafblind, hard of hearing, or have a speech disability may dial 711 (TTY, TDD, or TeleBraille) to access telecommunications relay services. Individuals outside the United States should use the relay services offered within their country to make international calls to the point of contact in the United States. You may also view the ICR at https://www.reginfo.gov/public/do/PRAMain.

SUPPLEMENTARY INFORMATION: In accordance with the Paperwork Reduction Act of 1995 (PRA, 44 U.S.C. 3501et seq.) and 5 CFR 1320.8(d)(1), we provide the public and other Federal agencies with an opportunity to comment on new, proposed, revised, and continuing collections of information. This helps us assess the impact of our information collection requirements and minimize the public's reporting burden. It also helps the public understand our information collection requirements and provide the requested data in the desired format.

A FederalRegister notice with a 60-day public comment period soliciting comments on this collection of information was published on August 27, 2021 (86 FR 48244). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The National Park Service (NPS) Social Science Program is authorized by the National Park Service Protection, Interpretation, and Research in System (54 U.S.C. 100701) to collect information that will improve the ability of the NPS to provide effective management, protection, and interpretation across the NPS. However, data is needed to generalize findings across all national park units in the System concerning visitor experiences, attitudes, and spending behaviors. Current data does not allow for comparison across units or against a regional and nationwide benchmark of information. The proposed collection will provide generalizable results for NPS managers and planners across the System to understand and monitor visitor demographics, economic contribution, services, facilities, and infrastructure investments. Park units will be able to compare their unit data with regional and national-level data to make informed decisions in future planning and management efforts.

A 30-day FRN (88 FR 44831) was previously published on July 13, 2023. This 30-day FRN is being published as a result of discussions with the Office of Information and Regulatory Affairs in the Office of Management and Budget about (1) the overall intent of the collections (2) methodology and statistical sampling, and (3) the length of survey instruments. The following updates have been made to the collection: (1) reductions to the overall number of questions (2) added methods for increasing response rates, and (3) slight adjustments to the wording of questions for clarity.

Title of Collection: Socioeconomic Monitoring Study of National Park Service Visitors.

OMB Control Number: 1024-NEW.

Form Number: None.

Type of Review: New.

Respondents/Affected Public: General Public; any visitor to national parks during the sampling period.

Total Estimated Number of Annual Respondents: 58,544. (36,936 intercept survey respondents, 8,310 non-response survey respondents, and 13,298 mail-back survey respondents).

Estimated Completion Time per Response: Varies from 2 minutes to 13 minutes depending upon activity.

Total Estimated Number of Annual Burden Hours: 6,852 hours.

Respondent's Obligation: Voluntary.

Frequency of Collection: One-time.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collections Clearance Officer, National Park Service.

[FR Doc. 2025-01230 Filed 1-16-25; 8:45 am]

BILLING CODE 4312-52-P